DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing updates to the identifying information of one person currently included on the SDN List.

DATES: This action takes effect on the date listed in SUPPLEMENTARY INFORMATION.

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

A. On July 16, 2024, OFAC determined that the property and interests in property subject to U.S. jurisdiction of the following persons are blocked under the relevant sanctions authority listed below.

Individuals

1. ARREDONDO PINZON, Griselda Margarita, Puerto Vallarta, Jalisco, Mexico; DOB 01 Jun 1990; POB Puerto Vallarta, Jalisco, Mexico; nationality Mexico; Gender Female; C.U.R.P. AEPG900601MJCRNR08 (Mexico) (individual) [ILLICIT-DRUGS-EO14059].

Designated pursuant to section 1(b)(iii) of Executive Order 14059 of December 15, 2021, “Imposing Sanctions on Foreign Persons Involved in the Global Illicit Drug Trade,” 86 FR 71549 (December 17, 2021) (E.O. 14059) for being owned, controlled, or directed by, or having acted or purported to act for or on behalf of, directly or indirectly, Cartel de Jalisco Nueva Generacion (CJNG), a person sanctioned pursuant to E.O. 14059.

2. FOUBERT CADENA, Xeyda Del Refugio, Puerto Vallarta, Jalisco, Mexico; DOB 02 Jul 1980; POB Guadalajara, Jalisco, Mexico; nationality Mexico; Gender Female; C.U.R.P. FOCX800702MJCBDY03 (Mexico) (individual) [ILLICIT-DRUGS-EO14059].

Designated pursuant to section 1(b)(iii) of E.O. 14059 for being owned, controlled, or directed by, or having acted or purported to act for or on behalf of, directly or indirectly, CJNG, a person sanctioned pursuant to E.O. 14059.

3. SANCHEZ MARTINEZ, Emiliano, Puerto Vallarta, Jalisco, Mexico; DOB 23 Nov 1980; POB Tamuin, San Luis Potosi, Mexico; nationality Mexico; Gender Male; C.U.R.P. SAME801123HSPNRM06 (Mexico) (individual) [ILLICIT-DRUGS-EO14059].

Designated pursuant to section 1(b)(iii) of E.O. 14059 for being owned, controlled, or directed by, or having acted or purported to act for or on behalf of, directly or indirectly, CJNG, a person sanctioned pursuant to E.O. 14059.

Entities

1. CONSTRUCTORA SANDGRIS, S. DE R.L. DE C.V., Puerto Vallarta, Jalisco, Mexico; Organization Established Date 12 Mar 2019; Organization Type: Non-specialized wholesale trade [ILLICIT-DRUGS-EO14059] (Linked To: ARREDONDO PINZON, Griselda Margarita).

Designated pursuant to section 1(b)(iii) of E.O. 14059 for being owned, controlled, or directed by, or having acted or purported to act for or on behalf of, directly or indirectly, Griselda Margarita Arredondo Pinzon, a person sanctioned pursuant to E.O. 14059.

2. BONA FIDE CONSULTORES FS S.A.S., Libramiento Luis Donaldo Colosio 550, 8, Lazaro Cardenas, Puerto Vallarta, Jalisco C.P. 48280, Mexico; Organization Established Date 16 Jan 2021; Organization Type: Accounting, bookkeeping and auditing activities; tax consultancy [ILLICIT-DRUGS-EO14059] (Linked To: SANCHEZ MARTINEZ, Emiliano).

Designated pursuant to section 1(b)(iii) of E.O. 14059 for being owned, controlled, or directed by, or having acted or purported to act for or on behalf of, directly or indirectly, Emiliano Sanchez Martinez, a person sanctioned pursuant to E.O. 14059.

3. PACIFIC AXIS REAL ESTATE, S.A. DE C.V., Puerto Vallarta, Jalisco, Mexico; Organization Established Date 18 Jul 2018; Organization Type: Real estate activities with own or leased property [ILLICIT-DRUGS-EO14059] (Linked To: FOUBERT CADENA, Xeyda Del Refugio).

Designated pursuant to section 1(b)(iii) of E.O. 14059 for being owned, controlled, or directed by, or having acted or purported to act for or on behalf of, directly or indirectly, Xeyda Del Refugio Foubert Cadena, a person sanctioned pursuant to E.O. 14059.

4. REALTY & MAINTENANCE BJ, S.A. DE C.V. (a.k.a. REALTY MAINTENANCE BJ), Ave Luis Donaldo Colosio 550 Loc 8, Lazaro Cardenas, Puerto Vallarta, Jalisco C.P. 48330, Mexico; Organization Established Date 18 Jul 2018; Organization Type: Real estate activities with own or leased property [ILLICIT-DRUGS-EO14059] (Linked To: FOUBERT CADENA, Xeyda Del Refugio).

Designated pursuant to section 1(b)(iii) of E.O. 14059 for being owned, controlled, or directed by, or having acted or purported to act for or on behalf of, directly or indirectly, Xeyda Del Refugio Foubert Cadena, a person sanctioned pursuant to E.O. 14059.

Additionally, OFAC is updating the SDN List entry for the previously designated person listed below.

From:

GRUPO MINERA BARRA PACIFICO, S.A.P.I. DE C.V., Leon, Guanajuato, Mexico; Organization Established Date 08 Feb 2021; Organization Type: Mining and Quarrying; Folio Mercantil No. N-2021024215 (Mexico) [ILLICIT-DRUGS-EO14059].

To:

GRUPO MINERO BARRA PACIFICO, S.A.P.I. DE C.V., Leon, Guanajuato, Mexico; Organization Established Date 08 Feb 2021; Organization Type: Mining and Quarrying; Folio Mercantil No. N-2021024215 (Mexico) [ILLICIT-DRUGS-EO14059].

Dated: July 16, 2024.
Bradley T. Smith,
Director, Office of Foreign Assets Control, U.S. Department of the Treasury.

[FR Doc. 2024-16000 Filed 7-19-24; 8:45 am]

BILLING CODE P